FEDERAL COMMUNICATIONS COMMISSION

47 CFR Part 73

[DA 00-1222, MM Docket No. 00-101, RM-9885]

Radio Broadcasting Services; Buckhead and Sparta, GA

AGENCY: Federal Communications Commission.

ACTION: Proposed rule.

SUMMARY: The Commission requests comments on a petition filed by Barinowski Investment Company seeking the substitution of Channel 274C3 for Channel 274A, its reallotment from Sparta to Buckhead, GA, as the community's first local aural service, and the modification of Station WPMA(FM)'s license accordingly. Channel 274C3 can be allotted to Buckhead in compliance with the Commission's minimum distance separation requirements with a site restriction of 6.4 kilometers (4.0 miles) southeast, at coordinates 33-31-40 NL; 83-18-45 WL, to avoid a short-spacing to Stations WGMG, Channel 271C3, Crawford, GA, and WVEE, Channel 277C, Atlanta, GA. Petitioner is requested to provide information to demonstrate that Buckhead is a community for allotment purposes, the population and reception services within the loss and gain areas, and that the allotment of Channel 274C3 to Buckhead will provide a public interest benefit sufficient to warrant the deletion of Sparta's sole local aural service.

DATES: Comments must be filed on or before July 24, 2000, and reply comments on or before August 8, 2000.

ADDRESSES: Federal Communications Commission, 445 12th Street, SW., Room TW-A325, Washington, DC 20554. In addition to filing comments with the FCC, interested parties should serve the petitioner, or its counsel or consultant, as follows: Jeffrey Southmayd, Southmayd & Miller, 1220 19th Street, NW., Suite 400, Washington, DC 20036 (Counsel to petitioner).

FOR FURTHER INFORMATION CONTACT: Leslie K. Shapiro, Mass Media Bureau, (202) 418-2180.

SUPPLEMENTARY INFORMATION: This is a synopsis of the Commission's Notice of Proposed Rule Making, MM Docket No. 00-101, adopted May 24, 2000, and released June 2, 2000. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-15263 Filed 6-15-00; 8:45 am]

BILLING CODE 6712-01-P